DEPARTMENT OF COMMERCE

International Trade Administration

[A-570-822]

Helical Spring Lock Washers From the People's Republic of China: Final Results of Antidumping Duty Administrative Review

AGENCY: Import Administration, International Trade Administration, Department of Commerce.

SUMMARY: The Department of Commerce (“the Department”) is conducting an administrative review of the antidumping duty order on helical spring lock washers (“HSLWs”) from the People's Republic of China (“PRC”) covering the period October 1, 2005, through September 30, 2006. We invited interested parties to comment on our preliminary results. Based on our analysis of the comments received, we have made changes to our margin calculations. Therefore, the final results differ from the preliminary results.

EFFECTIVE DATE: January 24, 2008.

FOR FURTHER INFORMATION CONTACT: Marin Weaver or Charles Riggle, AD/CVD Operations, Office 8, Import Administration, International Trade Administration, U.S. Department of Commerce, 14th Street and Constitution Avenue, NW., Washington, DC 20230; telephone: (202) 482-2336 or (202) 482-0650, respectively.

Background

On September 12, 2007, the Department of Commerce (“the Department”) published Certain Helical Spring Lock Washers From the People's Republic of China: Preliminary Results of Antidumping Duty Administrative Review, 72 FR 52073 (“Preliminary Results”). The respondent in this case is Hangzhou Spring Washer Co., Ltd. (also known as Zhejiang Wanxin Group, Ltd.) (“HSW”). Shakeproof Assembly Components Division of Illinois Tool Works, Inc. (“Shakeproof”), the U.S. interested party, filed surrogate value information and data on April 19, 2007, August 3, 2007, and October 12, 2007. HSW filed surrogate value information and data on April 19, 2007, May 29, 2007, and July 24, 2007. We gave interested parties an opportunity to comment on the Preliminary Results. Shakeproof requested a one-month extension of the deadline for filing case and rebuttal briefs on September 28, 2007. On October 2, 2007, we granted a one-day extension of the deadline for filing case and rebuttal briefs. On October 16, 2007, HSW filed its case brief. Shakeproof submitted the final proprietary version of its brief on October 17, 2007. HSW submitted the final proprietary version of its rebuttal brief on October 23, 2007. Shakeproof did not submit a rebuttal brief.

We have conducted this administrative review in accordance with section 751 of the Tariff Act of 1930, as amended (“the Act”), and 19 CFR 351.213.

Scope of the Order

The products covered by the order are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and (3) provide a hardened bearing surface. The scope does not include internal or external tooth washers, nor does it include spring lock washers made of other metals, such as copper.

HSLWs subject to the order are currently classifiable under subheading 7318.21.0030 of the Harmonized Tariff Schedule of the United States (“HTSUS”). Although the HTSUS subheading is provided for convenience and customs purposes, the written description of the scope of this proceeding is dispositive.

Analysis of Comments Received

All issues raised in the post-preliminary comments by parties in this review are addressed in the memorandum from Stephen J. Claeys, Deputy Assistant Secretary for Import Administration, to David M. Spooner, Assistant Secretary for Import Administration, Issues and Decision Memorandum for the Final Results of Certain Helical Spring Lock Washers from the People's Republic of China (January 15, 2008) (“Issues and Decision Memorandum”), which is hereby adopted by this notice. A list of the issues that parties raised and to which we responded in the Issues and Decision Memorandum is attached to this notice as an appendix. The Issues and Decision Memorandum is a public document and is on file in the Central Records Unit (“CRU”) in room B-099 in the main Commerce Department building, and is also accessible on the Web at http://ia.ita.doc.gov/frn. The paper copy and electronic version of the memorandum are identical in content.

Changes Since the Preliminary Results

Based on our analysis of comments received, we have made changes in the margin calculations for HSW. See Issues and Decision Memorandum at Comments 1-3 and Comment 6.

We revised the calculation of the adverse facts available rate we have applied to packing usage rates for sales we did not verify. Specifically, we calculated a simple average exclusive of sales for which HSW over-stated that actual packing material usage, and used this rate to inflate the packing usage rates of all the sales that were not verified. See Comment 1.

We changed our surrogate value for steel wire rod (“SWR”) and are using Indian imports from Harmonized Tariff Schedule (“HTS”) numbers 7213.91 and 7213.99 to value SWR for the final results. We will weight-average HTS numbers 7213.91 and 7213.99 based on the March 2006 inventory-out quantities obtained at verification. See Comment 2.

We have included Indian imports from Germany in our SWR surrogate value calculation. We have excluded Indian imports from South Africa and Brazil in our SWR surrogate value calculation. See Comment 3.

We have excluded imports from North Korea and Belgium stainless SWR surrogate value calculation. See Comment 3.

We have revised our calculations of Suchi's financial ratios in two ways. First, we have not included octroi, insurance, and freight forwarding expenses in the calculations of Suchi's financial ratios. Second, we have excluded traded goods from the overhead ratio, but included traded goods in the SG&A and profit ratios. See Comment 6.

Final Results of Review

We determined that the following dumping margin exists for the period October 1, 2005, through September 30, 2006:

Exporter/manufacturer | Weighted- average margin percentage
Hangzhou Spring Washer Co., Ltd. (also known as Zhejiang Wanxin Group, Ltd.) | 0.00

Assessment Rates

The Department intends to issue assessment instructions to U.S. Customs and Border Protection (“CBP”) 15 days after the date of publication of these final results of review. In accordance with 19 CFR 351.212(b)(1), we have calculated importer-specific assessment rates for merchandise subject to this review.

Cash Deposit Requirements

The following deposit requirements will be effective upon publication of this notice of final results of administrative review for all shipments of the subject merchandise entered, or withdrawn from warehouse, for consumption on or after the date of publication, as provided by section 751(a)(2)(C) of the Act: (1) For subject merchandise exported by HSW, the cash deposit rate will be zero; (2) for previously reviewed or investigated PRC and non-PRC exporters not listed above that have separate rates, the cash-deposit rate will continue to be the exporter-specific rate published for the most recent period; (3) for all PRC exporters of subject merchandise which have not been found to be entitled to a separate rate, the cash-deposit rate will continue to be the PRC-wide rate of 128.63 percent; and (4) for all non-PRC exporters of subject merchandise that have not received their own rate, the cash-deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing this determination and notice in accordance with sections 751(a) and 777(i) of the Act.

Dated: January 15, 2008.
David M. Spooner,
Assistant Secretary for Import Administration.

Appendix—List of Comments and Issues in the Issues and Decision Memorandum

Comment 1: Appropriate Adverse Facts Available

Comment 2: Surrogate Value for Steel Wire Rod: Source

Comment 3: Surrogate Value for Steel Wire Rod: Adjustments to Calculation

Comment 4: Surrogate Value for Hydrochloric Acid

Comment 5: Surrogate Financial Statements: Source

Comment 6: Surrogate Financial Statements: Adjustments to Calculation

Comment 7: Whether To Adjust Overhead Ratio for Environmental Compliance

[FR Doc. E8-1228 Filed 1-23-08; 8:45 am]

BILLING CODE 3510-DS-P